DEPARTMENT OF LABOR

Employee Benefits Security Administration

Proposed Extension of Information Collection; Request for Public Comment Establishing Prior Creditable Coverage

ACTION: Notice.

SUMMARY: The Department of Labor (Department), as part of its continuing effort to reduce paperwork and respondent burden, conducts a preclearance consultation program to provide the general public and Federal agencies with an opportunity to comment on proposed and continuing collections of information in accordance with the Paperwork Reduction Act of 1995 (PRA) (44 U.S.C. 3506(c)(2)((A)). This program helps to ensure that the data the Department gathers can be provided in the desired format, that the reporting burden on the public (time and financial resources) is minimized, that the public understands the Department's collection instruments, and that the Department can accurately assess the impact of collection requirements on respondents.

Currently, the Employee Benefits Security Administration (EBSA) is soliciting comments concerning the extension of a currently approved collection of information arising from the Department's regulation at 29 CFR 2590.701-5, which requires group health plans and health insurance issuers to furnish a written certificate suitable for establishing prior creditable coverage to participants and dependents who are or were covered under the group health plan upon the occurrence of specified events. A copy of the information collection request (ICR) can be obtained by contacting the office shown in the ADDRESSES section of this notice.

DATES: Written comments must be submitted to the office shown in the ADDRESSES section of this notice on or before September 18, 2006.

ADDRESSES: Interested parties are invited to submit written comments regarding the information collection request and burden estimates to Susan G. Lahne, Office of Policy and Research, Employee Benefits Security Administration, U.S. Department of Labor, 200 Constitution Avenue NW., Room N-5718, Washington, DC 20210, (202) 693-8410, FAX (202) 219-4745 (these are not toll-free numbers). Comments may also be submitted electronically to the following Internet e-mail address: ebsa.opr@dol.gov.

SUPPLEMENTARY INFORMATION:

I. Background

Subsection (a) of 29 CFR 2590.701-5 requires a group health plan and each health insurance issuer offering group health insurance coverage under a group health plan to furnish certificates of creditable coverage to specified individuals under specified circumstances. EBSA previously submitted an ICR concerning the requirement to provide certificates of creditable coverage to the Office of Management and Budget (OMB) for review under the PRA and received approval under OMB Control No. 1210-0103. The ICR approval is currently scheduled to expire on October 31, 2006.

II. Desired Focus of Comments

The Department is particularly interested in comments that:

• Evaluate whether the collection of information is necessary for the proper performance of the functions of the agency, including whether the information will have practical utility;

• Evaluate the accuracy of the agency's estimate of the burden of the collection of information, including the validity of the methodology and assumptions used;

• Enhance the quality, utility, and clarity of the information to be collected; and

• Minimize the burden of the collection of information on those who are to respond, including through the use of appropriate automated, electronic, mechanical, or other technological collection techniques or other forms of information technology, e.g., by permitting electronic submission of responses.

III. Current Action

This notice requests comments on an extension of information collections arising from the requirement under 29 CFR 2590.701-5 to provide certificates of creditable coverage. The Department is not proposing or implementing changes to the existing information collections at this time. A summary of the ICR and the current burden estimates follows:

Agency: Department of Labor, Employee Benefits Security Administration.

Title: Establishing Prior Creditable Coverage.

Type of Review: Extension of a currently approved collection of information.

OMB Number: 1210-0103.

Affected Public: Business or other for-profit; Not-for-profit institutions.

Frequency of Response: On occasion.

Respondents: 2,600,000.

Responses: 21,000,000.

Total Estimated Burden Hours: 260,000.

Total Burden Cost (Operating and Maintenance): $18,500,000.

Comments submitted in response to this notice will be summarized and/or included in the request for OMB approval of the extension of this ICR; they will also become a matter of public record.

Dated: July 13, 2006.
Susan G. Lahne,
Office of Policy and Research, Employee Benefits Security Administration.

[FR Doc. E6-11403 Filed 7-18-06; 8:45 am]

BILLING CODE 4510-20-P